CIVIL RIGHTS COMMISSION

Agenda and Notice of Public Meeting of the Florida Advisory Committee

Notice is hereby given, pursuant to the provisions of the rules and regulations of the U.S. Commission on Civil Rights, that a conference call of the Florida Advisory Committee will convene at 2 p.m. (EST) and adjourn at 3 p.m. (EST) on Thursday, September 8, 2005. The purpose of the meeting is to discuss the Committee's work on two projects: Equal Education Resources for Migrant Children in Florida and Unitary Status of School Districts in Florida.

This conference call is available to the public through the following call-in number: 800-473-8693, conference contact name Peter Minarik. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and contact name, Peter Minarik.

To ensure that the Commission secures an appropriate number of lines for the public, persons are asked to register by contacting Peter Minarik, Regional Director, Southern Regional Office, (404) 562-7000 (TDD/TTY 404-562-7004), by Tuesday, September 6, 2005.

The meeting will be conducted pursuant to the provisions of the rules and regulations of the Commission.

Dated at Washington, DC, August 18, 2005.
Ivy Davis,
Acting Chief, Regional Programs Coordination Unit.

[FR Doc. 05-17152 Filed 8-29-05; 8:45 am]

BILLING CODE 6335-01-P